NATIONAL CAPITAL PLANNING COMMISSION

Notice of Final Adoption and Effective Date for Revised Submission Guidelines

AGENCY: National Capital Planning Commission.

ACTION: Notice of final adoption of and effective date.

SUMMARY: The National Capital Planning Commission (NCPC) adopted revised Submission Guidelines related to transportation planning on July 9, 2020. Federal and non-Federal agency applicants whose development proposals and plans are subject to statutory mandated Commission plan and project review must submit their proposals to the Commission following a process laid out in the Submission Guidelines. The adopted revised Submission Guidelines support the adopted revised Transportation Element of the Comprehensive Plan for the National Capital: Federal Elements also adopted on July 9, 2020.

DATES: The revised Submission Guidelines will become effective September 14, 2020.

ADDRESSES: The revisions to the Submission Guidelines are available online at https://www.ncpc.gov/initiatives/transportation.

FOR FURTHER INFORMATION CONTACT: Johanna McCrehan at (202) 482-7206 or compplan@ncpc.gov.

Authority: 40 U.S.C. 8721(e)(2).

Dated: July 9, 2020.
Debra Dickson,
Director, Office of Administration.

[FR Doc. 2020-15324 Filed 7-15-20; 8:45 am]

BILLING CODE 7502-02-P